DEPARTMENT OF COMMERCE

Economic Development Administration

Proposed Information Collection; Comment Request; Innovative Technologies and Manufacturing Loan Guarantee Program

AGENCY: Economic Development Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 10, 2015.

ADDRESSES: Direct all written comments to EDA, Innovative Technologies and Manufacturing Loan Guarantee Program, U.S. Department of Commerce, Room 71004, 1401 Constitution Avenue NW., Washington, DC 20230 (or via the Internet to EDA at LGPForms@eda.gov).

FOR FURTHER INFORMATION CONTACT: Requests for additional information or copies of the information collection instrument and instructions should be directed to EDA at LGPForms@eda.gov.

SUPPLEMENTARY INFORMATION:

I. Abstract

The mission of the Economic Development Administration (EDA) is to lead the Federal economic agenda by promoting innovation and competitiveness, preparing American regions for growth and success in the worldwide economy. In order to effectively administer and monitor its economic development assistance programs, EDA collects certain information from applications for, and recipients of, EDA investment assistance.

Form ED-1919 Borrower's Information Form

Form ED-1919 is part of the application process. The purpose of this form is to collect identifying information about the applicant, loan request, indebtedness, information about the principals, information about current or previous government financing, and certain other disclosures. The information also facilitates background checks as authorized by EDA regulations.

Form ED-1920 Lender's Application

Form ED-1920 is part of the application process. The purpose of this form is to collect identifying information regarding the lender, loan terms, use of proceeds, and other information such as the innovation qualification, as well as eligibility information regarding the applicant and use of proceeds. This entire form is to be completed, signed and dated by the Lender prior to submission of the loan guarantee request to EDA.

Form ED-172 Account Transcripts

From ED-172 is part of the application process. The purpose of this form is to collect current loan transaction data when the EDA loan proceeds are used for refinancing.

Form ED-912 Statement of Personal History

Form ED-912 is part of the application process. The purpose of this form is to collect identifying information about the applicant that will allow EDA to perform a background check when necessary. This form is only required when the applicant has a criminal offense record that warrants further research into the borrower's character.

Form ED-413 Personal Financial Statement

Form ED-413 is part of the application process. The purpose of this form is to collect personal financial information such as assets, liabilities, stocks, and real estate for any person providing a guarantee on the loan.

Form ED-1050 Settlement Sheet

Form ED-1050 is part of the closing and disbursement process. The purpose of this form is to collect transaction data from the lender at initial funds disbursement and serve as a notification to EDA when the loan is being disbursed. This form also serves as an agreement that all disbursements be used for eligible purposes outlined in 13 CFR 311.

Form ED-159 Fee Disclosure and Compensation Agreement

Form ED-159 is part of the closing and disbursement process. The purpose of this form is to collect transactional data from the lender or borrower for any fees paid to an agent, advisor, attorney, broker, or other third party for services in connection with EDA ITM in excess of the regular lending process. This form also serves as an agreement that the borrower may not be charged unreasonably high fees, not be charged based on application decision, nor be charged for services unrelated to EDA ITM.

Form ED-1502 Quarterly Report

Form ED-1502 is part of the servicing process. The purpose of this form is to collect monthly transactional data from the lender in order for EDA to track principal and interest (P&I) payments between the borrower and lender. This form is to be submitted by the lender to EDA with an on-going servicing fee.

Form ED-2237 Approval Action Modification Form

Form ED-2237 is part of the servicing process. The purpose of this form is to notify EDA in the event of a modification to the loan that does not change EDA's risk level. This form also serves as an application form for modifications to a loan that change EDA's risk level, in which case the lender will need approval from EDA before the modification can be made.

Form ED-1149 Transcript of Account

Form ED-1149 is part of the termination process. The purpose of this form is to collect transactional data from the lender on the current status of the loan at the time the lender requests for EDA to purchase the guarantee.

II. Method of Collection

Paper and electronic submissions.

III. Data

OMB Control Number: 0610-XXXX.

Form Number(s): ED-1919, ED-1920, ED-172, ED-912, ED-413, ED-1050, ED-159, ED-1502, ED-2237, ED-1149.

Type of Review: New information collection.

Affected Public: Business or other for-profit.

Estimated Number of Respondents: ED-1919: 100, ED-1920: 100, ED-172: 10, ED-912: 10, ED-413: 50, ED-1050: 40, ED-159: 5, ED-1502: 180, ED-2237: 30, ED-1149: 6.

Estimated Time per Response: ED-1919: 9 minutes, ED-1920: 24 minutes, ED-172: 10 minutes, ED-912: 15 minutes, ED-413: 90 minutes, ED-1050: 15 minutes, ED-159: 5 minutes, ED-1502: 60 minutes, ED-2237: 5 minutes, ED-1149: 60 minutes.

Estimated Total Annual Burden Hours: ED-1919: 15, ED-1920: 40, ED-172: 1.67, ED-912: 2.5, ED-413: 75, ED-1050: 10, ED-159: 0.42, ED-1502: 180, ED-2237: 2.5, ED-1149: 6.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 8, 2014.
Glenna Mickelson,
Management Analyst, Office of the Chief Information Officer.

[FR Doc. 2014-29101 Filed 12-11-14; 8:45 am]

BILLING CODE 3510-24-P